DEPARTMENT OF TRANSPORTATION

Federal Motor Carrier Safety Administration

[Docket No. FMCSA-2006-26367]

Motor Carrier Safety Advisory Committee Public Subcommittee Meeting; Amendment

AGENCY: Federal Motor Carrier Safety Administration (FMCSA), DOT.

ACTION: Notice; amendment.

SUMMARY: This notice amends FMCSA's June 29, 2011, notice announcing July and August, 2011, subcommittee meetings of the Agency's Motor Carrier Safety Advisory Committee (MCSAC). Because a final decision on the location for the August 1-2, 2011, MCSAC subcommittee meeting had not been made at the time the June 29, 2011, notice was published, the Agency amends the previous notice to provide that information. Also, in consideration of the complexity of the technical issues discussed by the subcommittee during the July 11-12, 2011, meeting, the meeting time is being extended on the first day of the August 1-2, 2011, meeting.

FOR FURTHER INFORMATION CONTACT: Ms. Shannon L. Watson, (202) 385-2395, mcsac@dot.gov.

TIMES and DATES: The meeting will be held on Monday and Tuesday, August 1 and 2, 2011, from 8 a.m. to 5 p.m. (E.T.) at the Sheraton Crystal City, 1800 Jefferson Davis Highway, Arlington, VA 22202, in meeting rooms Crystal V and VI.

SUPPLEMENTARY INFORMATION: The FMCSA's June 29, 2011, notice (76 FR 38268) indicated that the Agency's MCSAC would hold two subcommittee meetings with the first meeting to be held on July 11-12, 2011, at the Hilton Alexandria Old Town. The notice indicated the second meeting would be held on August 1 and 2, 2011, from noon to 5 p.m. on August 1 and 8 a.m. to 5 p.m. on August 2. The notice did not provide a location for the August 1-2, 2011, meeting.

FMCSA announces the location of the August 1-2, 2011, meeting and extends the meeting time. The meeting will be held at the Sheraton Crystal City in Arlington, VA. The meeting will begin at 8 a.m. and end at 5 p.m. on both days.

Issued on: July 20, 2011.
Larry W. Minor,
Associate Administrator for Policy.

[FR Doc. 2011-18891 Filed 7-25-11; 8:45 am]

BILLING CODE 4910-EX-P